FEDERAL RETIREMENT THRIFT INVESTMENT BOARD

Sunshine Act Notice

Time and Date: 10 a.m. (EST),

Place: 4th Floor, Conference Room 4506, 1250 H Street, NW., Washington, DC.

Status: Open.

Matters to be Considered: 1. Approval of the minutes of the January 22, 2002, Board member meeting.

2. Labor Department audit briefing.

3. Thrift Savings Plan activity report by the Executive Director.

4. Investment policy review.

CONTACT PERSON FOR MORE INFORMATION: Thomas J. Trabucco, Director, Office of External Affairs, (202) 942-1640.

Dated: February 4, 2002.
Elizabeth S. Woodruff,
Secretary to the Board, Federal Retirement Thrift Investment Board.

[FR Doc. 02-2966 Filed 2-4-02; 11:54 am]

BILLING CODE 6760-01-M